DEPARTMENT OF THE INTERIOR

Bureau of Land Management

[BLM_NV_FRN_MO4500174065]

Notice of Realty Action: Recreation and Public Purposes Act Classification of Public Lands for Lease or Conveyance as a Community Park and Fire Station Complex in Henderson, NV

AGENCY: Bureau of Land Management, Interior.

ACTION: Notice of realty action.

SUMMARY: The Bureau of Land Management (BLM) Las Vegas Field Office has examined approximately 80 acres of public lands in Henderson, Nevada, and has found them suitable for classification to lease and convey under the provisions of the Recreation and Public Purposes Act (RPPA), as amended. The City of Henderson proposes to develop a community park over approximately 76 acres and a fire station that will be located on approximately 4 acres on the north-east corner of the parcel.

DATES: Submit written comments regarding this classification and RPPA lease/conveyance on or before February 1, 2024. Only written comments submitted to the Assistant Field Manager, at the address below, will be considered properly filed.

ADDRESSES: Written comments may be mailed to the BLM Las Vegas Field Office, Assistant Field Manager, Division of Lands, 4701 North Torrey Pines Drive, Las Vegas, NV 89130, or fax to (775) 515-5010.

FOR FURTHER INFORMATION CONTACT: Joseph Varner, Supervisory Realty Specialist, Las Vegas Field Office, at the above address, by telephone at (702) 515-5488, or by email at jvarner@blm.gov. Additional detailed information pertaining to the BLM's proposed lease and conveyance, or the city's plan of development and site plan, is available for review at the BLM Las Vegas Field Office at the above address in the ADDRESSES section.

Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The parcel is located at the southeast corner of Larson Lane and Bermuda Road in Henderson, Nevada, and is legally described as:

Mount Diablo Meridian, Nevada

T. 23 S., R. 61 E.,

Sec. 15, N½NW¼.

The area described contains 80 acres, according to the official plats of the surveys of said land on file with the BLM. The subject lands are not needed for any Federal purpose and lease/conveyance of the RPPA parcel is consistent with the BLM Las Vegas Resource Management Plan dated October 5, 1998.

The planned park would consist of several multi-use fields, an outdoor track, events plaza, a recreation center, tennis and pickleball courts, a field house with a gym, basketball and volleyball courts, a skate park, a multi-use recreation center with an indoor aquatics area, an outdoor aquatics area, playgrounds, a splash pad, restrooms, storage areas, concession space, picnic areas, activity areas, parking areas, a parking garage, bus parking, an undercrossing for pedestrian access, an irrigation system, utility services, and a maintenance site with a fill-up station and wash area for recreation and fire support vehicles.

The fire station would include an approximately 12,000 square foot structure with four apparatus bays, 14 dorms, 7 bathrooms, and other accessory spaces to support 24-hour staffing, 365 days a year. The building will be based on the design of other similar Henderson fire station facilities (Fire Stations 91, 85, 87) with an added bay and dorms for additional staff. This fire station would be known as the Henderson Fire Station 92. There would also be an area outside of the firehouse dedicated for fire response training.

Several trails would meander through and around the entire 80-acre parcel. All buildings would be constructed using Type 11B unprotected non-combustible materials and would be fabricated using a combination of tilt up concrete slabs, concrete masonry units, wood and steel frames, refrigerated air-conditioning, and heating systems that are placed throughout. Paved parking would be provided for faculty, visitors, buses, maintenance staff, and delivery vehicles. Access would be on paved roads 25 feet to 45 feet in width to allow for automobile and emergency vehicle travel.

Under the Southern Nevada Public Land Management Act of 1998 (Public Law 105-263) as amended, lands identified for disposal within the Las Vegas Valley are already withdrawn from location and entry under the U.S. mining laws and from operation of the mineral and geothermal leasing laws. Upon publication of this notice in the Federal Register, the land described above will be segregated from all other forms of appropriation under the public land laws, except for lease and conveyance under the RPPA. The segregation will terminate upon issuance of a patent, upon rejection of the application, or 18 months from the date of this notice, whichever occurs first.

The lease or conveyance, when issued, will be subject to the provisions of the RPPA and applicable regulations of the Secretary of the Interior, and in addition, when a patent is issued, it will contain the following additional reservations to the United States:

1. A right-of-way thereon for ditches or canals constructed by the authority of the United States, Act of August 30, 1890 (43 U.S.C. 945),

2. All minerals shall be reserved to the United States, together with the right to prospect for, mine, and remove such deposits for the same under applicable law and such regulations as the Secretary of the Interior may prescribe,

3. Subject to valid existing rights,

4. Any terms or conditions required by law (including, but not limited to, any terms or conditions required by 43 CFR 2741.4),

5. An appropriate indemnification clause protecting the United States from claims arising out of the lessee's/patentee's use, occupancy, or operations on the leased/patented lands,

6. Any other reservations that the authorized officer determines appropriate to ensure public access and proper management of Federal lands and interests therein,

7. A reversionary provision stating that title shall revert to the United States upon a finding, after notice and opportunity for a hearing, that, without the approval of the Secretary of the Interior or her delegate, the patentee or its approved successor attempted to convey title to or control over the lands to another; the lands have been devoted to a use other than that for which the lands were conveyed; the lands have not been used for the purpose for which the lands were conveyed for a 5-year period; or the patentee has failed to follow the approved development plan or management plan, except that any portion of the lands that may result in the disposal, placement, or release of any hazardous substance shall under no circumstance return to the U.S. Those lands must be patented without lease and must include a limited reversionary clause for 5 years, which if not developed within that time, the lands will return to the U.S., so long as no hazardous materials exist.

Subject to limitations prescribed by law and regulation, prior to patent issuance, the holder of any right-of-way grant from the BLM within the lease area would be given the opportunity to amend the right-of-way grant for conversion to a new term, including perpetuity, if applicable.

Classification Comments: Comments on the classification are restricted to whether the land is physically suited for the proposal, whether the use will maximize the future use or uses of the land, whether the use is consistent with local planning and zoning, or whether the use is consistent with State and Federal programs.

Application Comments: Interested parties may submit written comments regarding the specific use proposed in the application and plan of development and whether the BLM followed proper administrative procedures in reaching the decision to lease and convey under the RPPA.

Any adverse comments on the classification will be reviewed as protests by the BLM Nevada State Director, who may sustain, vacate, or modify this realty action. In the absence of any adverse comments, the decision will become effective on February 16, 2024. The lands will not be offered for lease and conveyance until after the classification becomes effective.

Before including your address, phone number, email, address, or other personal identifying information in your comment, you should be aware that your entire comment—including your personal identifying information—may be made publicly available at any time. While you can ask us in your comment to withhold your personal identifying information from public review, we cannot guarantee that we will be able to do so.

(Authority: 43 CFR 2741.5)

Bruce L. Sillitoe,
Field Manager, Las Vegas Field Office.

[FR Doc. 2023-27710 Filed 12-15-23; 8:45 am]

BILLING CODE 4331-21-P